DEPARTMENT OF THE INTERIOR

National Park Service

[NPS-NERO-PAGR-20154; PX.PR166532I.00.1]

Notice of March 3, 2016, Meeting for the Paterson Great Falls National Historical Park Advisory Commission

AGENCY: National Park Service, Interior.

ACTION: Notice of meeting.

SUMMARY: As required by the Federal Advisory Committee Act (5 U.S.C. Appendix 1-16), the National Park Service is hereby giving notice of the March 3, 2016, meeting for the Paterson Great Falls National Historical Park Advisory Commission. The Commission is authorized by the Omnibus Public Land Management Act, (16 U.S.C. 410lll), “to advise the Secretary in the development and implementation of the management plan.” Agendas for these meetings will be provided on the Commission Web site at http://www.nps.gov/pagr/parkmgmt/federal-advisory-commission.htm.

DATES: The Commission will meet on Thursday, March 3, 2016, 2:00 p.m.-5:00 p.m. (Eastern).

ADDRESSES: The meeting will be held at the Rogers Meeting Center, 32 Spruce Street, Paterson, NJ 07501.

FOR FURTHER INFORMATION CONTACT: Darren Boch, Superintendent and Designated Federal Officer, Paterson Great Falls National Historical Park, 72 McBride Avenue, Paterson, NJ 07501, (973) 523-2630.

SUPPLEMENTARY INFORMATION: The purpose of the meeting is to formalize the Commission's comments on the Paterson Great Falls National Historical Park draft general management plan and environmental assessment.

This meeting is open to the public and time will be reserved during each meeting for public comment. Oral comments will be summarized for the record. If individuals wish to have their comments recorded verbatim, they must submit them in writing. Written comments and requests for agenda items may be sent to: Federal Advisory Commission, Paterson Great Falls National Historical Park, 72 McBride Avenue, Paterson, NJ 07501.

Before including your address, telephone number, email address, or other personal identifying information in your comment, you should be aware that your entire comment—including your personal identifying information—may be made publicly available at any time. While you may ask us in your comment to withhold your personal identifying information from public review, we cannot guarantee that we will be able to do so. All comments will be made part of the public record and will be electronically distributed to all Commission members.

Dated: February 3, 2016.
Alma Ripps,
Chief, Office of Policy.

[FR Doc. 2016-02479 Filed 2-8-16; 8:45 am]

BILLING CODE 4310-EE-P